DEPARTMENT OF TRANSPORTATION

National Highway Traffic Safety Administration

Announcing the Twenty First Public Meeting of the Crash Injury Research and Engineering Network (CIREN)

AGENCY: National Highway Traffic Safety Administration (NHTSA), DOT.

ACTION: Meeting announcement.

SUMMARY: This notice announces the Twenty First Public Meeting of members of the Crash Injury Research and Engineering Network. CIREN is a collaborative effort to conduct research on crashes and injuries at six Level I Trauma Centers across the United States linked by a computer network. The current CIREN model utilizes two types of centers, medical and engineering. Medical centers are based at Level I Trauma Centers that admit large numbers of people injured in motor vehicle crashes. These teams are led by trauma surgeons and emergency physicians and also include a crash investigator and project coordinator. Engineering centers are based at academic engineering laboratories that have experience in motor vehicle crash and human injury research. Engineering teams partner with trauma centers to enroll crash victims into the CIREN program. Engineering teams are led by mechanical engineers, typically trained in the area of impact biomechanics. Engineering teams also include trauma/emergency physicians, a crash investigator, and a project coordinator. Either type of team typically includes additional physicians and/or engineers, epidemiologists, nurses, and other researchers.The CIREN process combines prospective data collection with professional multidisciplinary analysis of medical and engineering evidence to determine injury causation in every crash investigation conducted. Researchers can review data and share expertise, which may lead to a better understanding of crash injury mechanisms and the design of safer vehicles.The six centers will give presentations on current research based on CIREN data. Topics include: Understanding Brain Injury Mechanisms: Integrating Real World Lesions, Anthropomorphic Test Device Response, and Finite Element Modeling; Evaluating the Benefits for Advanced Automatic Crash Notification; Vehicle Seat Bottom Influence on Spine Loads in Frontal Impacts; Rib Fractures in Older Occupants; Changes Over Time in Injury and Crash Characteristics; and Determination of Seat Belt Use and Positioning with Three-Dimensional CT Scans.

The final agenda will be posted to the CIREN Web site that can be accessed by going to http://www.nhtsa.dot.gov/ciren. The agenda will be posted one week prior to the meeting.

Date and Time: The meeting is scheduled from 9:00 a.m. to 4:00 p.m. on Wednesday, September 4, 2013.

ADDRESSES: The meeting will be held at: U.S. Department of Transportation Headquarters, Oklahoma Room, 1200 New Jersey Avenue SE, Washington, DC 20590.

To Register For This Event: It is essential that you pre-register to expedite the security process for entry to the meeting facility. Please send your name, affiliation, phone number, and email address to Rodney.Rudd@dot.gov by Wednesday, August 28, 2013, in order to have your name added to the pre-registration list. Everyone must have a government-issued photo identification to be admitted to the facility.

For General Information: Rodney Rudd (202) 366-5932, Mark Scarboro (202) 366-5078 or Cathy McCullough (202) 366-4734.

SUPPLEMENTARY INFORMATION: NHTSA has held CIREN public meetings on a regular basis since 2000, including quarterly meetings and annual conferences. This is the Twenty First such meeting. Presentations from these meetings are available through the NHTSA Web site. NHTSA plans to continue holding CIREN meetings on a regular basis to disseminate CIREN information to interested parties. Individual CIREN cases collected since 1998 may be viewed from the NHTSA/CIREN Web site at the address provided above. Should it be necessary to cancel the meeting due to inclement weather or to any other emergencies, a decision to cancel will be made as soon as possible and posted immediately on CIREN's Web site as indicated above. If you do not have access to the Web site, you may call or email the contacts listed in this announcement and leave your telephone number or email address. You will be contacted only if the meeting is postponed or canceled.

Issued on: August 16, 2013.
Nathaniel Beuse,
Associate Administrator for Vehicle Safety Research.

[FR Doc. 2013-20394 Filed 8-22-13; 8:45 am]

BILLING CODE 4910-59-P